DEPARTMENT OF COMMERCE

International Trade Administration

[A-583-849, A-552-812]

Steel Wire Garment Hangers From Taiwan and Vietnam: Final Results of the Expedited First Sunset Reviews of the Antidumping Duty Orders

AGENCY: Enforcement and Compliance, International Trade Administration, Department of Commerce.

SUMMARY: As a result of these sunset reviews, the Department of Commerce (Commerce) finds that revocation of the antidumping duty orders on steel wire garment hangers (hangers) from Taiwan and the Socialist Republic of Vietnam (Vietnam) would be likely to lead to continuation or recurrence of dumping at the level indicated in the “Final Results of Sunset Reviews” section of this notice.

DATES: Effective March 9, 2018.

FOR FURTHER INFORMATION CONTACT: Ian Hamilton, AD/CVD Operations, Office V, Enforcement and Compliance, International Trade Administration, U.S. Department of Commerce, 1401 Constitution Avenue NW, Washington, DC 20230; telephone: (202) 482-4798.

SUPPLEMENTARY INFORMATION:

Background

On November 1, 2017, Commerce published the notice of initiation of the first sunset reviews of the antidumping duty orders on hangers from Taiwan and Vietnam, pursuant to section 751(c) of the Tariff Act of 1930, as amended (the Act).¹ On November 6, 2017, Commerce received a notice of intent to participate from M&B Metal Products Company, Inc. (the petitioner) as a domestic interested party, within the deadline specified in 19 CFR 351.218(d)(1)(i).² The petitioner claimed interested party status under section 771(9)(C) of the Act, as a manufacturer of a domestic like product in the United States.

¹ See Initiation of Five-Year (Sunset) Reviews, 82 FR 50612 (November 1, 2017).

² See Petitioner's Letter “First Sunset Reviews of Steel Wire Garment Hangers from Taiwan and Vietnam—Notice of Intent to Participate,” dated November 6, 2017 (Intent to Participate).

On November 30, 2017, we received a complete substantive response for the review from the domestic interested party within the 30-day deadline specified in 19 CFR 351.218(d)(3)(i).³ We received no substantive responses from respondent interested parties with respect to the orders covered by these sunset reviews, nor was a hearing requested. Commerce received no comments on the adequacy of responses in these sunset reviews. Pursuant to section 751(c)(3)(B) of the Act and 19 CFR 351.218(e)(1)(ii)(C)(2), Commerce is conducting expedited (120-day) sunset reviews of these orders.

³ Petitioner's Letter, “First Sunset Review of Steel Wire Garment Hangers from Taiwan—Substantive Response of Domestic Producer to Notice of Initiation,” dated November 30, 2017; Petitioner's Letter, “First Sunset Review of Antidumping Duty Order on Steel Wire Garment Hangers from Vietnam—Substantive Response of Domestic Producer to Notice of Initiation,” dated November 30, 2017.

Commerce has exercised its discretion to toll deadlines for the duration of the closure of the Federal Government from January 20 through 22, 2018. If the new deadline falls on a non-business day, in accordance with Commerce's practice, the deadline will become the next business day. The revised deadline for the final results of these sunset reviews are now March 5, 2018.⁴

⁴ See Memorandum for The Record from Christian Marsh, Deputy Assistant Secretary for Enforcement and Compliance, performing the non-exclusive functions and duties of the Assistant Secretary for Enforcement and Compliance, “Deadlines Affected by the Shutdown of the Federal Government” (Tolling Memorandum), dated January 23, 2018. All deadlines in this segment of the proceeding have been extended by 3 days.

Scope of the Orders

The merchandise subject to the orders is hangers. For a complete description of the scope of these orders, see the accompanying Issues and Decision Memorandum.⁵

⁵ See Memorandum, “Issues and Decision Memorandum for the Expedited First Sunset Review of the Antidumping Duty Orders on Steel Wire Garment Hanges from Taiwan and Vietnam” (Issues and Decision Memorandum), dated concurrently with these results and hereby adopted by this notice.

Analysis of Comments Received

All issues raised in these reviews, including the likelihood of continuation or recurrence of dumping in the event of revocation and the magnitude of the margins of dumping likely to prevail if the orders were revoked, are addressed in the accompanying Issues and Decision Memorandum. The Issues and Decision Memorandum is a public document and is on file electronically via Enforcement and Compliance's Antidumping and Countervailing Duty Centralized Electronic Service System (ACCESS). ACCESS is available to registered users at http://access.trade.gov, and to all parties in the Central Records Unit, room B8024 of the main Department of Commerce building. In addition, a complete version of the Issues and Decision Memorandum can be accessed directly on the internet at http://enforcement.trade.gov/frn/. The signed Issues and Decision Memorandum and the electronic version of the Issues and Decision Memorandum are identical in content.

Final Results of Sunset Reviews

Pursuant to sections 751(c)(1) and 752(c)(1), (2) and (3) of the Act, we determine that revocation of the antidumping duty orders on hangers from Taiwan and Vietnam would be likely lead to continuation or recurrence of dumping up to the following weighted-average dumping margins:

Country | Weighted-average dumping margin (percent)
Taiwan | 125.43
Vietnam | 220.68

Notification to Interested Parties

This notice serves as the only reminder to parties subject to an administrative protective order (APO) of their responsibility concerning the return or destruction of proprietary information disclosed under APO in accordance with 19 CFR 351.305. Timely written notification of the return or destruction of APO materials or conversion to judicial protective order is hereby requested. Failure to comply with the regulations and terms of an APO is a violation which is subject to sanction.

We are issuing and publishing these results and notice in accordance with sections 751(c), 752(c), and 777(i)(1) of the Act and 19 CFR 351.218.

Dated: March 5, 2018.
Gary Taverman,
Deputy Assistant Secretary for Antidumping and Countervailing Duty Operations, performing the non-exclusive functions and duties of Assistant Secretary for Enforcement and Compliance.

Appendix—List of Topics Discussed in the Issues and Decision Memorandum

I. Summary

II. Background

III. Scope of the Orders

IV. History of the Orders

V. Legal Framework

VI. Discussion of the Issues

1. Likelihood of Continuation or Recurrence of Dumping

2. Magnitude of the Margins of Dumping Likely to Prevail

VII. Final Results of Sunset Reviews

VIII. Recommendation

[FR Doc. 2018-04752 Filed 3-8-18; 8:45 am]

BILLING CODE 3510-DS-P